DEPARTMENT OF ENERGY

Senior Executive Service; Performance Review Board

AGENCY: U.S. Department of Energy.

ACTION: SES Performance Review Board Standing Register.

SUMMARY: This notice provides the Performance Review Board Standing Register for the Department of Energy. This listing supersedes all previously published lists of PRB members.

EFFECTIVE DATE: These appointments are effective as of September 30, 2007.

ABBOTT III, WALTER D

ADAMS, VINCENT NMN

ALLEVA, JOHN A

ALLISON, JEFFREY M

ANDERSON, CYNTHIA V

ANDERSON, MARGOT H

ANGULO, VERONICA A

AOKI, STEVEN NMN

ARKIN, RICHARD W

ARMSTRONG, DAVID J

ASCANIO, XAVIER NMN

AVERY, NAPOLEON S

BACA, FRANK A

BACA, MARK C

BAKER, KENNETH E

BARKER JR, WILLIAM L

BASHISTA, JOHN R

BAUER, CARL O

BEAMON, JOSEPH A

BEARD, SUSAN F

BEAUDRY-LOSIQUE, JACQUES A

BEBEN, CAMILLE NMN

BECK, ANDREW C

BELMAR, WARREN NMN

BESERRA, FRANK J

BIENIAWSKI, ANDREW J

BISCONTI, GIULIA R

BLACK, RICHARD L

BLACK, STEVEN K

BLACKWOOD, EDWARD B

BOARDMAN, KAREN L

BONILLA, SARAH J

BORGSTROM, CAROL M

BORGSTROM, HOWARD G

BOSCO, PAUL NMN

BOYD, DAVID O

BOYD, GERALD G

BOYKO, THOMAS R

BRESE, ROBERT F

BROCKMAN, DAVID A

BROMBERG, KENNETH M

BRONSTEIN, ELI B

BROWN III, ROBERT J

BURNS, ALLEN L

BURROWS, CHARLES W

BUTTRESS, LARRY D

CADIEUX, GENA E

CALLAHAN, SAMUEL N

CAMPBELL II, HUGH T

CAMPBELL, DAVID A

CAMPBELL, JAMES THOMAS

CAMPIONE, CHRISTOPHER J

CARABETTA, RALPH A

CARDINALI, HENRY A

CARLSON, JOHN T

CARY, STEVEN V

CAVANAGH, JAMES J

CERVENY, THELMA J

CHACEY, KENNETH A

CHALK, STEVEN G

CHAVEZ-WILCYNSKI, JAN M

CHECK, PETER L

CHUNG, DAE Y

CISNEROS, ADRIENNE L

CLAPPER, DANIEL R

CLARK, DIANA D

CLARK, LARRY W

COHEN, DANIEL NMN

COLLARD, GEORGE W

COLLAZO, YVETTE T

CONTI, JOHN J

COOK, JOHN S

COOKE JR, KEVIN R

COREY, RAY J

COSTLOW, BRIAN D

COURTS, ALAN L

CRAIG JR, JACK R

CRANDALL, DAVID H

CRAWFORD, DAVID W

CRAWFORD, GLEN D

CUEVAS, STEVEN J

CUGINI, ANTHONY V

DAUB, VERNON NMN

DAVIS, KIMBERLY A

DEDIK, PATRICIA NMN

DEENEY, CHRISTOPHER NMN

DEHMER, PATRICIA M

DEHORATIIS JR, GUIDO NMN

DEIHL, MICHAEL A

DELWICHE, GREGORY K

DEMKO, JOSEPH C

DER, VICTOR K

DESMOND, WILLIAM J

DIAMOND, BRUCE M

DICAPUA, MARCO S

DICKERSON, PAUL H

DIFIGLIO, CARMEN NMN

DYER, J RUSSELL

ECKROADE, WILLIAM A

EDGERTON, PATRICK D

EGGER, MARY H

EHLI, CATHY L

EKIMOFF, LANA NMN

ELWOOD, JERRY W

ELY, LOWELL V

ERICKSON, LEIF NMN

EULE, STEPHEN D

FAUL, JERRY W

FERRARO, PATRICK M

FIORE, JAMES J

FISCHETTI, MICHAEL P

FOLEY, KATHLEEN Y

FRANCO JR, JOSE R

FRANKLIN, RITA R

FRANTZ, DAVID G

FREDRIKSEN, KATHARINE A

FREI, MARK W

FRESCO, MARY ANN E

FURRER, ROBIN R

FURSTENAU, RAYMOND V

FYGI, ERIC J

GARCIA, DONALD J

GASPEROW, LESLEY A

GEISER, DAVID W

GELLES, CHRISTINE M

GENDRON, MARK O

GERRARD, JOHN E

GIBSON JR, WILLIAM C

GILBERTSON, MARK A

GIST, WALTER J

GLENN, DANIEL E

GOLAN, PAUL M

GOLDSMITH, ROBERT NMN

GOLUB, SAL JOSEPH

GOODRUM, WILLIAM S

GORDON, THEANNE E

GOTTLIEB, PAUL A

GRAYSON, ANTHONY S

GREENBERG, RAYMOND F

GREENWOOD, JOHNNIE D

GRESHAM, LARRY M

GROSE, AMY E

GRUENSPECHT, HOWARD K

GUEVARA, ARNOLD E

GUEVARA, KAREN C

GUITH, CHRISTOPHER J

HANNIGAN, JAMES J

HARDING, TODD K

HARDWICK JR, RAYMOND J

HARRELL, JEFFREY P

HARRINGTON, PAUL G

HARRIS, ROBERT J

HARTMAN, JOHN R

HARVEY, TOBIN K

HASS, RICKEY R

HAYWARD, MARY ALICE

HEGBURG, ALAN S

HENNEBERGER, KAREN O

HENNEBERGER, MARK W

HENRY, EUGENE A

HERRERA, C ROBERT D

HICKOK, STEVEN G

HODSON, PATRICIA J

HOFFMAN, DENNIS J

HOFFMAN, PATRICIA A

HOLLAND, MICHAEL D

HOLLOWELL, BETTY L N

HOLLRITH, JAMES W

HUDSON, JODY L

HUFFER, WARREN L

HUIZENGA, DAVID G

HUNTEMAN, WILLIAM J

HUTTO III, F CHASE

HYNDMAN, JOHN E

INGOLS, ADAM B

IZELL, KATHY D

JENKINS, ROBERT G

JOHNSON, ROBERT SHANE

JOHNSON, SANDRA L

JOHNSTON, MARC NMN

JONAS, DAVID S

JONES, GREGORY A

JONES, MARCUS E

JORDAN, ROBERT R

JORDAN, ROSALIE M

JUAREZ, LIOVA D

KAEMPF, DOUGLAS E

KANE, MICHAEL C

KAUFFMAN, STORM R

KEARNEY, JAMES H

KENDELL, JAMES M

KESELBURG, JAMES D

KHAN, TARIQ M

KIGHT, GENE H

KILPATRICK, MICHAEL A

KILROY, EDWARD F

KIRKENDALL, NANCY J

KLAUSING, KATHLEEN A

KLING, JON NMN

KNOLL, WILLIAM S

KNOX, ERIC K

KOLB, INGRID A C

KONOPNICKI, THAD T

KOPPLE, SCOTT A

KOURY, JOHN F

KOUTS, CHRISTOPHER A

KOVAR, DENNIS G

KRAHN, STEVEN L

KROL, JOSEPH J

KUNG, HUIJOU HARRIET

KUPFER, JEFFREY F

KUSNEZOV, DIMITRI F

LAGDON JR, RICHARD H

LAMBERT, JAMES B

LANGE, ROBERT G

LANTHRUM, J GARY

LAWRENCE, ANDREW C

LAWRENCE, STEVEN J

LAY, WILLIAM G

LAZOR, JOHN D

LEATHLEY, KIMBERLY A

LEE, STEVEN NMN

LEHMAN, DANIEL R

LEMPKE, MICHAEL K

LERSTEN, CYNTHIA A

LEWIS III, CHARLES B

LEWIS JR, WILLIAM A

LEWIS, ROGER A

LINGAN, ROBERT M

LISOWSKI, PAUL W

LIVENGOOD, JOANNA M

LOWE, OWEN W

LOYD, RICHARD NMN

LUCZAK, JOANN H

LUTHA, RONALD J

LUTZE, NEILE MILLER

MACINTYRE, DOUGLAS M

MAGRUDER, SARAH K

MAHARAY, WILLIAM S

MALE, BARBARA D

MALOSH, GEORGE J

MARCINOWSKI III, FRANK NMN

MARLAY, ROBERT C

MARMOLEJOS, POLI A

MARTINEZ, ELOY DENNIS

MCCLOUD, FLOYD R

MCCONNELL, JAMES J

MCCORMICK, MATTHEW S

MCCRACKEN, STEPHEN H

MCGUIRE, PATRICK W

MCKEE, BARBARA N

MCKENZIE, JOHN M

MCRAE, JAMES BENNETT

MEACHAM, A AVON

MEEKS, TIMOTHY J

MELLINGTON, SUZANNE P

MEYER, CHARLES E

MILLER, CLARENCE L

MILLER, DEBORAH C

MILLER, WENDY L

MILLIKEN, JOANN NMN

MIOTLA, DENNIS M

MIZROCH, JOHN F

MONETTE, DEBORAH D

MONTANO, PEDRO A

MONTOYA, ANTHONY H

MOODY III, DAVID C

MOORE, JOHNNY O

MOORER, RICHARD F

MOREDOCK, J EUN

MORTENSON, VICTOR A

MUELLER, TROY J

MURPHIE, WILLIAM E

NAPLES, ELMER M

NEUHOFF, JON W

NEUMAYR, MARY BRIDGET C

NEWMAN, LARRY NMN

NICOLL, ERIC G

NOLAN, ELIZABETH A

NORMAN, JAY H

NORMAN, PAUL E

O'CONNOR, THOMAS J

OLENCZ, JOSEPH NMN

OLINGER, SHIRLEY J

OLIVER, LAWRENCE R

OLIVER, STEPHEN R

OLSON, DEAN G

OOSTERMAN, CARL H

OSHEIM, ELIZABETH L

OTT, MERRIE CHRISTINE

OVERTON, CHRISTOPHER G

OWEN, MICHAEL W

OWENDOFF, JAMES M

PARKS JR, WILLIAM P

PARNES, SANFORD J

PAVETTO, CARL S

PEASE, HARRISON G

PENRY, JUDITH M

PERRINE, PAMELA J

PETERSON, BRADLEY A

PIEPER, FREDRICK G

PIPER II, LLOYD L

PODONSKY, GLENN S

PON, JEFF T H

POWERS, KENNETH W

PROVENCHER, RICHARD B

PRZYBYLEK, CHARLES S

PURUCKER, ROXANNE E

PYKE JR, THOMAS N

RAMSEY, CLAY HARRISON

RHEAUME, CYNTHIA A

RHODERICK, JAY E

RICHARD, MICHAEL T

RICHARDS, AUNDRA M

RICHARDSON, HERBERT NMN

ROACH, RANDY A

RODGERS, DAVID E

RODGERS, STEPHEN J

ROHLFING, ERIC A

RUSSO, FRANK B

SALM, PHILIP E

SALMON, JEFFREY T

SCHEINMAN, ADAM M

SCHMITZ, THOMAS A

SCHNAPP, ROBERT M

SCHOENBAUER, MARTIN J

SCHWARTZ, DOUGLAS H

SCHWIER, JEAN F

SCOTT, BRUCE B

SCOTT, RANDAL S

SELLERS, ELIZABETH D

SHARPLEY, CHRISTOPHER R

SHEARER, C RUSSELL H

SHEELY, KENNETH B

SHEPPARD, CATHERINE M

SHERRY, THEODORE D

SHOPE, THOMAS D

SILVERSTEIN, BRIAN L

SIMON-GILLO, JEHANNE E

SIMONSON, STEVEN C

SIMPSON, EDWARD R

SINGER, MARVIN I

SITZER, SCOTT B

SKUBEL, STEPHEN C

SLUTZ, JAMES A

SMITH, BARRY ALAN

SMITH, KEVIN W

SMITH, THOMAS Z

SMITH-KEVERN, REBECCA F

SNIDER, LINDA J

SPADER, WILLIAM F

SPAMPINATO, FRANCIS C

SPEARS, TERREL J

STAFFIN, ROBIN NMN

STAKER, THOMAS R

STALLMAN, ROBERT M

STARK, RICHARD M

STARNES, ALBERT J

STATON, CARL P

STONE, BARBARA R

STONE, CHERYL M

STOUT, DANIEL P

STRAYER, MICHAEL R

STREIT, LISA D

SURASH, JOHN E

SWEETNAM, GLEN E

SWIFT III, JOHN E

SWIFT, JUSTIN R

SYKES, MERLE L

TALBOT JR, GERALD L

TAYLOR, STEVE C

TAYLOR, WILLIAM J

THOMPSON, MICHAEL A

THRESS JR, DONALD F

TORKOS, THOMAS M

TRAUTMAN, STEPHEN J

TRIAY, INES R

TUCKER, CRAIG A

TURI, JAMES A

TYNER, TERESA M

UNDERWOOD, WILLIAM R

VAGTS, KENNETH A

VALDEZ, WILLIAM J

VANZANDT, VICKIE A

VIOLA, MICHAEL V

WADDELL, JOSEPH F

WAGNER, M PATRICE

WAISLEY, SANDRA L

WALL, EDWARD JAMES

WALSH, ROBERT J

WARNICK, WALTER L

WEAKLEY, STEPHANIE F

WEEDALL, MICHAEL J

WEIS, MICHAEL J

WELLING, DAVID CRAIG

WELLS, RITA L

WESTON-DAWKES, ANDREW P

WHITAKER JR, MARK B

WHITE, DONALD G

WHITENTON, MARSHALL E

WHITNEY, JAMES M

WIEKER, THOMAS L

WILBANKS, LINDA R

WILBER, DEBORAH A

WILCHER, LARRY D

WILKEN, DANIEL H

WILKES, BRYAN K

WILLIAMS, ALICE C

WILLIAMS, MARK H

WILLIAMS, RHYS M

WILMOT, EDWIN L

WILSON JR, THOMAS NMN

WINCHELL JR, DONALD L

WORTHINGTON, JON C

WORTHINGTON, PATRICIA R

WRIGHT, STEPHEN J

WU, CHUAN-FU NMN

WUNDERLICH, ROBERT C

YUAN-SOO HOO, CAMILLE C

ZAMORSKI, MICHAEL J

ZEH, CHARLES M

Sarah J. Bonilla,
Director, Office of Human Capital Management.

[FR Doc. E7-23354 Filed 11-30-07; 8:45 am]

BILLING CODE 6450-01-P